Title 3—

The President

Proclamation 8268 of June 2, 2008

National Oceans Month, 2008

By the President of the United States of America

A Proclamation

Oceans have provided an important part of our heritage, economy, and recreation, and they are a vital resource for our country and the world. During National Oceans Month, we reaffirm our commitment to protect and wisely use these precious waters and the habitat beneath them.

We have a solemn responsibility to care for our seas and show concern for the plant and animal life that inhabit them. Oceans bring enjoyment and prosperity to countless people, from boating and fishing, to transporting goods, to traveling the waterways. By being good stewards of the oceans, we can ensure that future generations are able to enjoy the great blessings of our natural heritage.

My Administration is committed to safeguarding the oceans and ensuring effective conservation. Since the release of my Ocean Action Plan in 2004, we have taken steps to prevent pollution and improve the health of marine wildlife by working with State, tribal, and local governments, as well as private sector and international partners. We are working to end overfishing in U.S. waters and to stop destructive fishing practices on the high seas. We are also supporting ocean programs to educate the public on the need to prevent marine debris and improve the quality of the marine environment, as well as other projects such as the International Coral Reef Initiative that can help conserve and restore delicate and essential ecosystems. By working to protect our oceans, we ensure that natural wonders like the Papahānaumokuākea Marine National Monument in the Northwestern Hawaiian Islands will be enjoyed for generations to come.

This month is an opportunity to show our gratitude toward all those who work to protect the oceans, to learn more about the vital role oceans play in the life of our country, and to discover ways we can conserve their many natural treasures.

NOW, THEREFORE, I, GEORGE W. BUSH, President of the United States of America, by virtue of the authority vested in me by the Constitution and laws of the United States, do hereby proclaim June 2008 as National Oceans Month. I encourage all our citizens to observe this month with appropriate ceremonies and activities.

IN WITNESS WHEREOF, I have hereunto set my hand this second day of June, in the year of our Lord two thousand eight, and of the Independence of the United States of America the two hundred and thirty-second.

[FR Doc. 08-1330

Filed 6-4-08; 9:56 am]

Billing code 3195-01-P